NUCLEAR REGULATORY COMMISSION

[Docket Nos. 52-027 and 52-028; NRC-2008-0441]

Virgil C. Summer Nuclear Station, Units 2 and 3; South Carolina Electric and Gas; Change to Information in Tier 1 Table 3.3-1

AGENCY: Nuclear Regulatory Commission.

ACTION: Exemption and Combined License Amendment: Issuance.

SUMMARY: The U.S. Nuclear Regulatory Commission (NRC) is issuing an exemption to allow a departure from the certification information of Tier 1 of the generic design control document (DCD) and License Amendment No. 4 to Combined Licenses (COL), NPF-93 and NPF-94. The COLs were issued to South Carolina Electric and Gas (SCE&G) and South Carolina Public Service Authority (Santee Cooper) (the licensee), for construction and operation of the Virgil C. Summer Nuclear Station (VCSNS), Units 2 and 3 located in Fairfield County, South Carolina. The amendment changes requested improve the clarity and accuracy of the Tier 1 information located in Table 3.3-1, “Definition of Wall Thicknesses for Nuclear Island Buildings, Turbine Buildings, and Annex Building,” which describes wall and floor thicknesses in the plant. The granting of the exemption allows the changes asked for in the amendment. Because the acceptability of the exemption was determined in part by the acceptability of the amendment, the exemption and amendment are being issued concurrently.

ADDRESSES: Please refer to Docket ID NRC-2008-0441 when contacting the NRC about the availability of information regarding this document. You may access information related to this document, which the NRC possesses and is publicly available, using any of the following methods:

• Federal Rulemaking Web site: Go to http://www.regulations.gov and search for Docket ID NRC-2008-0441. Address questions about NRC dockets to Carol Gallagher; telephone: 301-492-3668; email: Carol.Gallagher@nrc.gov. For technical questions, contact the individual listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. The request for the amendment and exemption were submitted by letter dated September 26, 2012 (ADAMS Accession No. ML12275A274). The licensee supplemented this request on March 13, 2013 (ADAMS Accession No. ML13074A040).

• NRC's PDR: You may examine and purchase copies of public documents at the NRC's PDR, Room O1-F21, One White Flint North, 11555 Rockville Pike, Rockville, Maryland 20852.

FOR FURTHER INFORMATION CONTACT: Denise McGovern, Office of New Reactors, U.S. Nuclear Regulatory Commission, Washington, DC 20555-0001; telephone: 301-415-0681; email: Denise.McGovern@nrc.gov.

SUPPLEMENTARY INFORMATION:

I. Introduction

The NRC is issuing an exemption from Paragraph B of Section III, “Scope and Contents,” of Appendix D, “Design Certification Rule for the AP1000,” to Part 52 of Title 10 of the Code of Federal Regulations (10 CFR) and License Amendment No. 4 to COLs, NPF-93 and NPF-94, issued to the licensee. The exemption is required by Paragraph A.4 of Section VIII, “Processes for Changes and Departures,” Appendix D to 10 CFR Part 52 to allow the licensee to depart from Tier 1 information. The licensee sought to change the Tier 1 information located in Table 3.3-1 of its Updated Final Safety Analysis Report (UFSAR). These changes sought to improve the clarity and accuracy of the table so that it could be more easily inspected during Inspections, Tests, Analyses, and Acceptance Criteria (ITAAC) closure.

Part of the justification for granting the exemption was provided by the review of the amendment. Because the exemption is necessary in order to issue the requested license amendment, the NRC granted the exemption and issued the amendment concurrently, rather than in sequence. This included issuing a combined safety evaluation containing the NRC staff's review of both the exemption request and the license amendment. The exemption met all applicable regulatory criteria set forth in 10 CFR 50.12, 10 CFR 52.7, and Section VIII.A.4. of Appendix D to 10 CFR Part 52. The license amendment was found to be acceptable as well. The combined safety evaluation is available in ADAMS under Accession No. ML13135A316.

Identical exemption documents (except for referenced unit numbers and license numbers) were issued to the licensee for VCSNS Units 2 and 3 (COLs NPF-93 and NPF-94). These documents can be found in ADAMS under Accession Nos. ML13135A283 and ML13135A300. The exemption is reproduced (with the exception of abbreviated titles and additional citations) in Section II of this document. The amendment documents for COLs NPF-93 and NPF-94 are available in ADAMS under Accession Nos. ML13135A227 and ML13135A252. A summary of the amendment documents is provided in Section III of this document.

II. Exemption

Reproduced below is the exemption document issued to VCSNS Units 2 and 3. It makes reference to the combined safety evaluation that provides the reasoning for the findings made by the NRC (and listed under Item 1) in order to grant the exemption:

1. In a letter dated September 26, 2012, and supplemented by a letter dated March 13, 2013, the licensee requested from the Commission an exemption from the provisions of 10 CFR Part 52, Appendix D, Section III.B, “Design Certification Rule for the AP1000 Design, Scope, and Contents,” as part of license amendment request 12-02, “Tier 1 Definition of Wall Thicknesses.”

For the reasons set forth in Section 3.1, “Evaluation of Exemption,” of the NRC staff's Safety Evaluation, which can be found in ADAMS under Accession No. ML13135A316, the Commission finds that:

A. the exemption is authorized by law;

B. the exemption presents no undue risk to public health and safety;

C. the exemption is consistent with the common defense and security;

D. special circumstances are present in that the application of the rule in this circumstance is not necessary to serve the underlying purpose of the rule;

E. the special circumstances outweigh any decrease in safety that may result from the reduction in standardization caused by the exemption; and

F. the exemption will not result in a significant decrease in the level of safety otherwise provided by the design.

2. Accordingly, the licensee is granted an exemption to the provisions of 10 CFR Part 52, Appendix D, Section III.B, to allow deviations from the certified Design Control Document (DCD) Tier 1 Table 3.3-1, as described in the licensee's request dated September 26, 2012, and supplemented on March 13, 2013. This exemption is related to, and necessary for the granting of License Amendment No. 4, which is being issued concurrently with this exemption.

3. As explained in 10 CFR 5.0 of the NRC staff's Safety Evaluation (ADAMS Accession No. ML13135A316), this exemption meets the eligibility criteria for categorical exclusion set forth in 10 CFR 51.22(c)(9). Therefore, pursuant to 10 CFR 51.22(b), no environmental impact statement or environmental assessment needs to be prepared in connection with the issuance of the exemption.

4. This exemption is effective as of May 30, 2013.

III. License Amendment Request

By letter dated September 26, 2012, the licensee requested that the NRC amend the COLs for VCSNS Units 2 and 3, COLs NPF-93 and NPF-94. The licensee supplemented this application on March 13, 2013. The proposed amendment would depart from the UFSAR Tier 1 material, and would revise the associated material that has been included in Appendix C of each of the VCSNS, Units 2 and 3, COLs. Specifically the requested amendment will revise the Tier 1 information located in Table 3.3-1, to correctly translate information found in Tier 1 and Tier 2 drawings. No physical changes or design changes were requested as part of this amendment, only the presentation of design information in Table 3.3-1 changed.

The Commission has determined for these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register on November 13, 2012 (77 FR 67679). The supplements had no effect on the no significant hazards consideration determination and no comments were received during the 60-day comment period.

The Commission has determined that these amendments satisfy the criteria for categorical exclusion in accordance with 10 CFR 51.22. Therefore, pursuant to 10 CFR 51.22(b), no environmental impact statement or environmental assessment need be prepared for these amendments.

IV. Conclusion

Using the reasons set forth in the combined safety evaluation, the staff granted the exemption and issued the amendment that the licensee requested on September 26, 2012, and supplemented by letter dated March 13, 2013. The exemption and amendment were issued on May 30, 2013 as part of a combined package to the licensee. (ADAMS Accession No. ML13135A207).

Dated at Rockville, Maryland, this 2nd day of July 2013.
For the Nuclear Regulatory Commission.
Lawrence Burkhart,
Chief, Licensing Branch 4, Division of New Reactor Licensing, Office of New Reactors.

[FR Doc. 2013-16432 Filed 7-8-13; 8:45 am]

BILLING CODE 7590-01-P